DEPARTMENT OF LABOR

Occupational Safety and Health Administration

29 CFR Parts 1926 and 1928

[Docket No. S-270-A]

RIN 1218-AC15

Roll-Over Protective Structures

AGENCY: Occupational Safety and Health Administration (OSHA), Labor.

ACTION: Final rule; confirmation of effective date.

SUMMARY: OSHA is confirming the effective date of its direct final rule reinstating its original construction and agriculture standards that regulate the testing of roll-over protective structures used to protect employees who operate wheel-type tractors. The direct final rule stated that it would become effective on February 27, 2006 unless significant adverse comment was received by January 30, 2006. OSHA received only one comment on the direct final rule, which it has determined is not a significant adverse comment.

DATES: The direct final rule published on December 29, 2005 is effective February 27, 2006. For the purpose of judicial review, OSHA considers February 28, 2006 as the date of issuance.

FOR FURTHER INFORMATION CONTACT: Press Inquiries: Kevin Ropp, OSHA Office of Communications, Room N-3647, U.S. Department of Labor, 200 Constitution Avenue, NW., Washington, DC 20210; telephone: (202) 693-1999. General and technical information: Mark Hagemann, Acting Director, Office of Safety Systems, Directorate of Standards and Guidance, Occupational Safety and Health Administration, U.S. Department of Labor, Room N-3609, 200 Constitution Avenue, NW., Washington, DC 20210; telephone (202) 693-2255.

ADDRESSES: In compliance with 28 U.S.C. 2112(a), OSHA designates the Associate Solicitor for Occupational Safety and Health as the recipient of petitions for review of the final standard. The Associate Solicitor may be contacted at the Office of the Solicitor, Room S-4004, U.S. Department of Labor, 200 Constitution Avenue, NW., Washington, DC 20210, telephone: (202) 693-5445.

SUPPLEMENTARY INFORMATION: On March 7, 1996, OSHA published a technical amendment in the Federal Register that revised a number of its standards, including the construction and agriculture standards that regulate testing of roll-over protective structures (“ROPS”) (61 FR 9228); employers use these structures to protect employees who operate wheel-type tractors. The revision removed the original, detailed ROPS-testing standards and referred instead to national consensus standards for substantive ROPS-testing requirements.

Several years after issuing the 1996 technical amendment, the Agency determined that differences existed between its original construction and agriculture ROPS standards and the ROPS standards adopted under the 1996 technical amendment, and that these differences have a substantial impact on the regulated community. Based on this determination, OSHA found that reinstating the original OSHA standards through a direct final rule was necessary and appropriate; it published this direct final rule in the Federal Register on December 29, 2005 (70 FR 76979).

The Agency stated in the direct final rule that it would consider as significant adverse comments only those comments that addressed: (1) The lawfulness of the procedures used to promulgate the 1996 technical amendment as these procedures related to the ROPS testing provisions; and (2) whether a few minor revisions made to the original ROPS standards were unreasonable or inappropriate. OSHA received only one public comment on the direct final rule, which it has determined is not a significant adverse comment. The commenter recommended several technical clarifications to the original ROPS provisions and accompanying figures. The Agency will address these recommendations in a subsequent Federal Register notice. In the present notice, OSHA is confirming that the effective date for the December 29, 2005 direct final rule on ROPS is February 27, 2006. For purposes of judicial review, OSHA considers February 28, 2006 to be the date of issuance.

List of Subjects

29 CFR Part 1926

Construction industry, Motor vehicle safety, Occupational safety and health.

29 CFR Part 1928

Agriculture, Motor vehicle safety, Occupational safety and health.

Authority and Signature

This document was prepared under the direction of Jonathan L. Snare, Acting Assistant Secretary of Labor for Occupational Safety and Health, U.S. Department of Labor, 200 Constitution Avenue, NW., Washington, DC 20210. The Agency is issuing this final rule under the following authorities: Sections 4, 6, and 8 of the Occupational Safety and Health Act of 1970 (29 U.S.C. 653, 655, 657); Section 3704 of the Contract Work Hours and Safety Standards Act (40 U.S.C. 3701 et seq.); Secretary of Labor's Order 5-2002 (67 FR 65008); and 29 CFR Part 1911.

Signed at Washington, DC on February 21, 2006.
Jonathan L. Snare,
Acting Assistant Secretary of Labor.

[FR Doc. 06-1835 Filed 2-27-06; 8:45 am]

BILLING CODE 4510-26-P